DEPARTMENT OF HOMELAND SECURITY

Federal Emergency Management Agency

[Docket ID FEMA-2025-0002; Internal Agency Docket No. FEMA-2551]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Online location of letter of map revision | Date of modification | Community No.
Connecticut: New Haven | Town of East Haven (25-01-0643X). | The Honorable Joseph A. Carfora, Mayor, Town of East Haven, 250 Main Street, East Haven, CT 06512. | Engineering Department, 461 North High Street, East Haven, CT 06512. | https://msc.fema.gov/portal/advanceSearch. | Oct. 23, 2025 | 040037
Florida:
Bay | Unincorporated areas of Bay County (24-04-6962P). | Robert Majka, Manager, Bay County, 840 West 11th Street, Panama City, FL 32401. | Bay County Planning and Zoning Department, 840 West 11th Street, Panama City, FL 32401. | https://msc.fema.gov/portal/advanceSearch. | Nov. 10, 2025 | 120004
Collier | City of Marco Island (25-04-1248P). | Mike McNees, Manager, City of Marco Island, 50 Bald Eagle Drive, Marco Island, FL 34145. | Building Services Department, 50 Bald Eagle Drive, Marco Island, FL 34145. | https://msc.fema.gov/portal/advanceSearch. | Oct. 9, 2025 | 120426
Duval | City of Jacksonville (24-04-6951P). | The Honorable Donna Deegan, Mayor, City of Jacksonville, 117 West Duval Street, Suite 400, Jacksonville, FL 32202. | City Hall, 117 West Duval Street, Jacksonville, FL 32202. | https://msc.fema.gov/portal/advanceSearch. | Oct. 15, 2025 | 120077
Duval | City of Jacksonville (25-04-0687P). | The Honorable Donna Deegan, Mayor, City of Jacksonville, 117 West Duval Street, Suite 400, Jacksonville, FL 32202. | City Hall, 117 West Duval Street, Jacksonville, FL 32202. | https://msc.fema.gov/portal/advanceSearch. | Nov. 6, 2025 | 120077
Leon | Unincorporated areas of Leon County (24-04-6936P). | The Honorable Vincent S. Long, Leon County, Administrator, 301 South Monroe Street, Tallahassee, FL 32301. | Leon County Renaissance Center, DSEM Environmental Services, 435 North Macomb Street, Tallahassee, FL 32301. | https://msc.fema.gov/portal/advanceSearch. | Nov. 4, 2025 | 120143
Monroe | Unincorporated areas of Monroe County (25-04-3831P). | The Honorable Jim Scholl, Mayor, Monroe County, Board of Commissioners, 530 Whitehead Street, Key West, FL 33040. | Monroe County Building Department, 2798 Overseas Highway, Suite 300, Marathon, FL 33050. | https://msc.fema.gov/portal/advanceSearch. | Nov. 14, 2025 | 125129
Orange | City of Orlando (25-04-1101P). | The Honorable Buddy Dyer, Mayor, City of Orlando, 400 South Orange Avenue, Orlando, FL 32801. | Public Works Department, Engineering Services Division, 400 South Orange Avenue, 8th Floor, Orlando, FL 32801. | https://msc.fema.gov/portal/advanceSearch. | Nov. 7, 2025 | 120186
Pasco | Unincorporated areas of Pasco County (24-04-6983P). | The Honorable Mike Carballa, Pasco County Administrator, 8731 Citizens Drive, New Port Richey, FL 34654. | Pasco County Government Center, 8731 Citizens Drive, New Port Richey, FL 34654. | https://msc.fema.gov/portal/advanceSearch. | Oct. 30, 2025 | 120230
St. Johns | Unincorporated areas of St. Johns County (25-04-1680P). | The Honorable Joy Andrews, St. Johns County Administrator, 500 San Sebastian View, St. Augustine, FL 32084. | St. Johns County Administration Building, 500 San Sebastian View, St. Augustine, FL 32084. | https://msc.fema.gov/portal/advanceSearch. | Oct. 28, 2025 | 125147
Volusia | City of Daytona Beach (24-04-4524P). | The Honorable Derrick Henry, Mayor, City of Daytona Beach, 301 South Ridgewood Avenue, Daytona Beach, FL 32114. | City Hall, 301 South Ridgewood Avenue, Daytona Beach, FL 32114. | https://msc.fema.gov/portal/advanceSearch. | Nov. 7, 2025 | 125099
Volusia | City of Ormond Beach (24-04-4524P). | The Honorable Jason Leslie, Mayor, City of Ormond Beach, 22 South Beach Street, Ormond Beach, FL 32174. | City Hall, 22 South Beach Street, Ormond Beach, FL 32174. | https://msc.fema.gov/portal/advanceSearch. | Nov. 7, 2025 | 125136
Volusia | Unincorporated areas of Volusia County (24-04-4524P). | George Recktenwald, Volusia County Manager, 123 West Indiana Avenue, DeLand, FL 32720. | Volusia County Thomas C. Kelly Administration Center, 123 West Indiana Avenue, DeLand, FL 32720. | https://msc.fema.gov/portal/advanceSearch. | Nov. 7, 2025 | 125155
Georgia: Chatham | City of Pooler (24-04-2433P). | The Honorable Karen L. Williams, Mayor, City of Pooler, 100 U.S. Highway 80 Southwest, Pooler, GA 31322. | City Hall, 100 U.S. Highway 80 Southwest, Pooler, GA 31322. | https://msc.fema.gov/portal/advanceSearch. | Oct. 15, 2025 | 130261
Kentucky:
Union | City of Sturgis (24-04-3552P). | The Honorable Billy Adams, Mayor, City of Sturgis, P.O. Box 98, Sturgis, KY 42459. | Union County Planning Commission, 510 South Mart Street, Morganfield, KY 42437. | https://msc.fema.gov/portal/advanceSearch. | Oct. 23, 2025 | 210217
Union | City of Uniontown (24-04-3544P). | The Honorable LaDonna N. Tapp, Mayor, City of Uniontown, P.O. Box 548, Uniontown, KY 42461. | Union County Planning Commission, 510 South Mart Street, Morganfield, KY 42437. | https://msc.fema.gov/portal/advanceSearch. | Oct. 16, 2025 | 210218
Louisiana: Livingston | Unincorporated areas of Livingston Parish (25-06-0302P). | The Honorable Randy Delatte, Livingston Parish President, P.O. Box 427, Livingston, LA 70754. | Livingston Parish Building and Permit Department, 20399 Government Boulevard, Livingston, LA 70754. | https://msc.fema.gov/portal/advanceSearch. | Oct. 17, 2025 | 220113
Massachusetts: Plymouth | Town of Hull (25-01-0177P). | Jennifer Constable, Manager, Town of Hull, 253 Atlantic Avenue, Hull, MA 02045. | Building Department, 253 Atlantic Avenue, Hull, MA 02045. | https://msc.fema.gov/portal/advanceSearch. | Oct. 10, 2025 | 250269
Minnesota:
Anoka | City of Blaine (24-05-0743P). | The Honorable Tim Sanders, Mayor, City of Blaine, 10801 Town Square Drive Northeast, Blaine, MN 55449. | City Hall, 10801 Town Square Drive Northeast, Blaine, MN 55449. | https://msc.fema.gov/portal/advanceSearch. | Oct. 20, 2025 | 270007
Clay | City of Glyndon (24-05-0538P). | The Honorable Joe Olson, Mayor, City of Glyndon, 36 3rd Street Southeast, Glyndon, MN 56547. | City Hall, 36 3rd Street Southeast, Glyndon, MN 56547. | https://msc.fema.gov/portal/advanceSearch. | Oct. 24, 2025 | 270083
Clay | Unincorporated areas of Clay County (24-05-0538P). | The Honorable Kevin Campbell, Chair, Clay County, Board of Commissioners, P.O. Box 280, Moorhead, MN 56560. | Clay County Government Center, 3510 12th Avenue South, Moorhead, MN 56560. | https://msc.fema.gov/portal/advanceSearch. | Oct. 24, 2025 | 275235
Pennington | Unincorporated areas of Pennington County (24-05-0823P). | The Honorable Seth Nelson, Pennington County Commissioner, 101 Main Avenue North, Thief River Falls, MN 56701. | Pennington County SWCD, 201 Sherwood Avenue South, Thief River Falls, MN 56701. | https://msc.fema.gov/portal/advanceSearch. | Oct. 9, 2025 | 270651
North Carolina: Guilford | Town of Oak Ridge (24-04-7076P). | The Honorable Jim Kinneman, Mayor, Town of Oak Ridge, P.O. Box 374, Oak Ridge, NC 27310. | Planning and Zoning Department, 8315 Linville Road, Oak Ridge, NC 27310. | https://msc.fema.gov/portal/advanceSearch. | Oct. 30, 2025 | 370596
Pennsylvania:
Juniata | Township of Delaware (24-03-0070P). | The Honorable Douglas L. Roush, Chair, Township of Delaware Board of Supervisors, 815 Quarry Road, McAlisterville, PA17049. | Township Hall, 815 Quarry Road, McAlisterville, PA 17049. | https://msc.fema.gov/portal/advanceSearch. | Nov. 7, 2025 | 421739
Montgomery | Township of Whitemarsh (24-03-0912P). | Craig McAnally, Township of Whitemarsh Manager, 616 Germantown Pike, Lafayette Hill, PA 19444. | Township Hall, 616 Germantown Pike, Lafayette Hill, PA 19444. | https://msc.fema.gov/portal/advanceSearch. | Nov. 7, 2025 | 420712
Texas:
Bexar | City of San Antonio (25-06-0801P). | The Honorable Ron Nirenberg, Mayor, City of San Antonio, P.O. Box 839966, San Antonio, TX 78283. | Public Works, Storm Water Division, 1901 South Alamo Street, 2nd Floor, San Antonio, TX 78205. | https://msc.fema.gov/portal/advanceSearch. | Oct. 6, 2025 | 480045
Collin | City of Melissa (24-06-2260P). | The Honorable Jay Northcut, Mayor, City of Melissa, 3411 Barker Avenue, Melissa, TX 75454. | City Hall, 3411 Barker Avenue, Melissa, TX 75454. | https://msc.fema.gov/portal/advanceSearch. | Oct. 27, 2025 | 481626
Collin | Unincorporated areas of Collin County (24-06-2260P). | The Honorable Chris Hill, Collin County Judge, 2300 Bloomdale Road, 1st Floor, McKinney, TX 75071. | Collin County Engineering Department, 4690 Community Avenue, Suite 200, McKinney, TX 75071. | https://msc.fema.gov/portal/advanceSearch. | Oct. 27, 2025 | 480130
Dallas | City of Dallas (24-06-2275P). | Kimberly Bizor Tolbert, Manager, City of Dallas, 1500 Marilla Street, Room 4EN, Dallas, TX 75201. | Stormwater Operations Department, 2245 Irving Boulevard, 2nd Floor, Dallas, TX 75207. | https://msc.fema.gov/portal/advanceSearch. | Oct. 20, 2025 | 480171
Dallas | City of Dallas (25-06-0086P). | Kimberly Bizor Tolbert, Manager, City of Dallas, 1500 Marilla Street, Room 4EN, Dallas, TX 75201. | Stormwater Operations Department, 2245 Irving Boulevard, 2nd Floor, Dallas, TX 75207. | https://msc.fema.gov/portal/advanceSearch. | Oct. 20, 2025 | 480171
Dallas | City of Garland (25-06-1337P). | The Honorable Scott LeMay, Mayor, City of Garland, P.O. Box 469002, Garland, TX 75046. | City Hall, 200 North 5th Street, Garland, TX 75040. | https://msc.fema.gov/portal/advanceSearch. | Oct. 14, 2025 | 485471
Montgomery | City of Conroe (25-06-0024P). | The Honorable Duke W. Coon, Mayor, City of Conroe, P.O. Box 3066, Conroe, TX 77305. | City Hall, 300 West Davis Street, Conroe, TX 77301. | https://msc.fema.gov/portal/advanceSearch. | Nov. 4, 2025 | 480484
Rockwall | City of Rockwall (24-06-2387P). | The Honorable Tim McCallum, Mayor, City of Rockwall, 385 South Goliad Street, Rockwall, TX 75087. | City Hall, 385 South Goliad Street, Rockwall, TX 75087. | https://msc.fema.gov/portal/advanceSearch. | Oct. 27, 2025 | 480547
Tarrant | City of Haltom City (25-06-0183P). | Rex Phelps, Manager, City of Haltom City, 4801 Haltom Road, Haltom City, TX 76117. | City Hall, 4801 Haltom Road, Haltom City, TX 76117. | https://msc.fema.gov/portal/advanceSearch. | Oct. 14, 2025 | 480599

[FR Doc. 2025-15878 Filed 8-19-25; 8:45 am]

BILLING CODE 9110-12-P